DEPARTMENT OF HOMELAND SECURITY

Coast Guard

33 CFR Part 117

[CGD01-03-011]

Drawbridge Operation Regulations: Taunton River, MA

AGENCY: Coast Guard, HS.

ACTION: Notice of temporary deviation from regulations.

SUMMARY: The Commander, First Coast Guard District, has issued a temporary deviation from the drawbridge operation regulations for the Brightman Street Bridge, mile 1.8, across the Taunton River between Fall River and Somerset, Massachusetts. This deviation from the regulations allows the bridge to remain in the closed position from 9 p.m. on March 14, 2003 through 4 p.m. on March 28, 2003. This deviation is necessary to facilitate scheduled maintenance at the bridge.

DATES: This deviation is effected from March 14, 2003 through March 28, 2003.

FOR FURTHER INFORMATION CONTACT: John W. McDonald, Project Officer, First Coast Guard District, at (617) 223-8364.

SUPPLEMENTARY INFORMATION: The vertical clearance under the bridge in the closed position is 27 feet at mean high water and 31 feet at mean low water. The existing drawbridge operation regulations are listed at 33 CFR 117.619(b).

The bridge owner, Massachusetts Highway Department, requested a temporary deviation from the drawbridge operation regulations to facilitate necessary structural repairs at the bridge, replacement of the stringers on both bascule spans, at the bridge.

Under this deviation the bridge may remain in the closed position from 9 p.m. on March 14, 2003 through 4 p.m. on March 28, 2003.

There have been few requests to open this bridge during the requested time period scheduled for these structural repairs in past years. The Coast Guard and the bridge owner coordinated this closure with the facilities upstream from the bridge and no objections to this scheduled closure were received.

This deviation from the operating regulations is authorized under 33 CFR 117.35, and will be performed with all due speed in order to return the bridge to normal operation as soon as possible.

Dated: March 3, 2003.
Vivien S. Crea,
Rear Admiral, Coast Guard, Commander, First Coast Guard District.

[FR Doc. 03-6629 Filed 3-18-03; 8:45 am]

BILLING CODE 4910-15-U